FEDERAL COMMUNICATIONS COMMISSION

Radio Broadcasting Services; AM or FM Proposals To Change the Community of License

AGENCY: Federal Communications Commission.

ACTION: Notice.

SUMMARY: The following applicants filed AM or FM proposals to change the community of license: COLLEGE CREEK MEDIA, LLC, Station KDVC, Facility ID 164124, BPH-20090205ACK, From DOVE CREEK, CO, To LOMA, CO; EDB VV LICENSE LLC, Station KRSX-FM, Facility ID 2316, BPH-20090203ACE, From YERMO, CA, To TWENTYNINE PALMS, CA; GRAND CANYON GATEWAY BROADCASTING, LLC, Station KYET, Facility ID 64357, BP-20090202AVS, From WILLIAMS, AZ, To GOLDEN VALLEY, AZ; HODSON BROADCASTING, Station KHOD, Facility ID 165982, BMPH-20090209ABC, From DES MOINES, NM, To RATON, NM; MAGIC BROADCASTING ALABAMA LICENSING LLC, Station WJRL-FM, Facility ID 63945, BPH-20090128AEX, From OZARK, AL, To FORT RUCKER, AL; PROETTI, LORENZ E, Station KLEP, Facility ID 166043, BMPH-20080201BPB, From DUBOIS, WY, To MOOSE WILSON ROAD, WY; RADIO TRAINING NETWORK, INC., Station WRTP, Facility ID 5018, BPED-20090121ACK, From ROANOKE RAPIDS, NC, To FRANKLINTON, NC; SAGA COMMUNICATIONS OF SOUTH DAKOTA, LLC, Station KUQL, Facility ID 42113, BPH-20090116ABV, From WESSINGTON SPRINGS, SD, To ETHAN, SD; SIGA BROADCASTING CORP., Station KAML, Facility ID 17322, BP-20090204ABW, From KENEDY-KARNES CITY, TX, To MATHIS, TX; SUNBURST MEDIA-LOUISIANA, LLC, Station KMYO-FM, Facility ID 67677, BPH-20090129AMR, From MORGAN CITY, LA, To GRAY, LA; WAITT OMAHA, LLC, Station KOOO, Facility ID 35067, BPH-20090121AAL, From LINCOLN, NE, To LA VISTA, NE; WILLIAM C. CARN, III TRUSTEE FOR STAGE DOOR DEV, Station WUSD, Facility ID 62206, BPH-20090121AIF, From GENEVA, AL, To HARTFORD, AL.

DATES: Comments may be filed through May 4, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E9-4580 Filed 3-3-09; 8:45 am]

BILLING CODE 6712-01-P